DEPARTMENT OF AGRICULTURE

Forest Service

Notice of Public Meeting on Proposed Withdrawal of Forest Service Lands, Arizona

AGENCY: Forest Service, USDA.

ACTION: Notice.

SUMMARY: This notice announces the time and place for a public meeting on the proposed Forest Service withdrawal application for the protection of cultural, recreational, and resource values on and around the San Francisco Peaks near Flagstaff, Arizona. This public meeting will provide the opportunity for public involvement in this proposed action as required by regulation. All comments will be considered when a final determination is made on whether this land should be withdrawn.

MEETING DATE AND TIME: The public meeting will be held on May 17, 2000 from 5 pm to 8 pm.

MEETING LOCATION: Flagstaff City Hall, Council Chambers and Conference Room, 211 West Aspen Avenue, Flagstaff, Arizona 86001.

FOR FURTHER INFORMATION CONTACT: Ken Jacobs or Alvin Brown, Peaks Ranger District, Coconino National Forest, 520-526-0866.

SUPPLEMENTARY INFORMATION: A Notice of Proposed Withdrawal for the San Francisco Peaks/Mount Elden Area was published in the Federal Register issue of November 4, 1998, Vol 63, No. 213, page 59576. The notice contained a legal description of the proposed withdrawal area and stated that a public meeting would be held at a later date. Notice is hereby given that a public meeting will be held at the location, date, and time shown above. The purpose of the meeting is to allow interested persons to ask questions and comment on the proposed withdrawal.

Dated: March 8, 2000.
James W. Golden,
Forest Supervisor, Coconino National Forest.

[FR Doc. 00-6581 Filed 3-16-00; 8:45 am]

BILLING CODE 3410-11-M